DEPARTMENT OF TRANSPORTATION

Federal Aviation Administration

14 CFR Part 39

[Docket No. 2002-NM-118-AD]

RIN 2120-AA64

Airworthiness Directives; Airbus Model A320-111, -211, and -231 Series Airplanes

AGENCY: Federal Aviation Administration, DOT.

ACTION: Notice of proposed rulemaking (NPRM).

SUMMARY: This document proposes the supersedure of an existing airworthiness directive (AD), applicable to certain Airbus Model A320-111, -211, and -231 series airplanes, that currently requires repetitive inspections for cracking in the transition and pick-up angles in the lower part of the center fuselage area, and corrective action if necessary. That AD also provides for an optional terminating modification for the repetitive inspection requirements. This action would reduce the compliance time for the inspections for cracking of the same area. The actions specified by the proposed AD are intended to detect and correct fatigue cracking in the transition and pick-up angles of the lower part of the center fuselage, which could result in reduced structural integrity of the wing-fuselage support and fuselage pressure vessel. This action is intended to address the identified unsafe condition.

DATES: Comments must be received by December 18, 2003.

ADDRESSES: Submit comments in triplicate to the Federal Aviation Administration (FAA), Transport Airplane Directorate, ANM-114, Attention: Rules Docket No. 2002-NM-118-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-118-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-118-AD.” The postcard will be date stamped and returned to the commenter.

Availability of NPRMs

Any person may obtain a copy of this NPRM by submitting a request to the FAA, Transport Airplane Directorate, ANM-114, Attention: Rules Docket No. 2002-NM-118-AD, 1601 Lind Avenue, SW., Renton, Washington 98055-4056.

Discussion

On June 2, 1998, the FAA issued AD 98-12-18, amendment 39-10573 (63 FR 31345, June 9, 1998), applicable to certain Airbus Model A320-111, -211, and -231 series airplanes, to require repetitive inspections for cracking in the transition and pick-up angles in the lower part of the center fuselage area, and corrective action if necessary. That AD also provides for an optional terminating modification for the repetitive inspection requirements. That action was prompted by the issuance of mandatory continuing airworthiness information by a foreign civil airworthiness authority. The requirements of that AD are intended to detect and correct fatigue cracking in the transition and pick-up angles of the lower part of the center fuselage, which could result in reduced structural integrity of the wing-fuselage support and fuselage pressure vessel.

Actions Since Issuance of Previous Rule

Since the issuance of AD 98-12-18, the Direction Générale de l'Aviation Civile (DGAC), which is the airworthiness authority for France, notified the FAA that an unsafe condition may exist on certain Airbus Model A320-111, -211, and -231 series airplanes. The DGAC advises that a full-scale fatigue survey on the Model A320 fleet revealed that the weight of fuel at landing and the mean flight duration are higher than those defined for the analysis of fatigue-related tasks. This has led to an adjustment of the fatigue mission for the A320 fleet, in that the DGAC has reduced the compliance threshold and intervals in France from landings to flight cycles and flight hours for accomplishment of the inspections for fatigue cracking required by the existing AD. Fatigue-related cracking in the pick-up and transition angles in the lower part of the center fuselage could result in reduced structural integrity of the wing-fuselage support and fuselage pressure vessel.

Explanation of Relevant Service Information

Airbus has issued Service Bulletin A320-53-1028, Revision 01, dated February 12, 2002. The inspection procedures specified in Revision 01 are essentially the same as those in the original issue of the service bulletin, which was referenced in the existing AD for accomplishment of the inspections and corrective action. However, Revision 01 has a change that recommends a reduction in the compliance time specified in the original issue by adding flight cycles and flight hours as a reduction in thresholds.

Airbus also has issued Service Bulletin A320-53-1027, Revision 03, dated February 12, 2002. The modification procedures in Revision 03 are essentially the same as those in Revision 02 of the service bulletin, which was referenced in the existing AD for accomplishment of the modification. The changes in Revision 03 are minor editorial changes.

The DGAC classified these service bulletins as mandatory and issued French airworthiness directive 2002-183(B), dated April 3, 2002, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed AD

Since an unsafe condition has been identified that is likely to exist or develop on other airplanes of the same type design registered in the United States, the proposed AD would supersede AD 98-12-18 to continue to require repetitive inspections for cracking in the transition and pick-up angles in the lower part of the center fuselage area, and corrective action if necessary. The proposed AD also would continue to provide for an optional terminating modification for the repetitive inspection requirements. This new action would reduce the compliance time for the inspections for fatigue cracking of the same area. The actions would be required to be accomplished in accordance with the service bulletins described previously, except as discussed below.

Change to Existing AD

The compliance time in the existing AD specified landings; however, this proposed AD would specify flight cycles (which are essentially the same as landings) and flight hours as a reduction in thresholds.

Differences in Proposed AD, Referenced Service Bulletins, and Related French AD

The service bulletins specify that operators may contact the manufacturer for disposition of certain repair conditions; however, this proposed AD would require operators to repair those conditions per a method approved by either the FAA or the DGAC (or its delegated agent). In light of the type of repair that would be required to address the unsafe condition, and consistent with existing bilateral airworthiness agreements, we have determined that, for this proposed AD, a repair approved by either the FAA or the DGAC would be acceptable for compliance with this proposed AD.

The service bulletins describe procedures for submitting a sheet recording compliance with the service bulletin, this proposed AD would not require those actions. We do not need this information from operators.

Service Bulletin A320-52-1028 refers only to a “visual inspection” for cracking of the transition and pick-up angles in the lower part of the center fuselage area. We have determined that the procedures in the service bulletin should be described as a “detailed inspection.” For clarification purposes, all references to a visual inspection in the existing AD have been changed accordingly. A new Note 2 has been included in this proposed AD to define this type of inspection.

The service bulletins specify Model A320-212 series airplanes, while the applicability of this proposed AD specifies Model A320-111, -211, and -231 series airplanes without modification 21202 in production, as these are the only airplanes affected by the unsafe condition.

Cost Impact

There are approximately 24 airplanes of U.S. registry that would be affected by this proposed AD. The new requirements of this AD add no additional economic burden. The current costs for this AD are repeated for the convenience of affected operators, as follows:

The inspections that are currently required by AD 98-12-18, and retained in this proposed AD, take about 9 work hours per airplane to accomplish, at an average labor rate of $65 per work hour. Based on these figures, the cost impact of the currently required actions on U.S. operators is estimated to be $14,040, or $585 per airplane, per inspection cycle.

The cost impact figure discussed above is based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

If an operator chooses to do the optional terminating modification rather than continue the repetitive inspections, it would take between 5 and 10 work hours per airplane to accomplish the proposed modification, at an average labor rate of $65 per work hour. Required parts would cost between $1,077 and $1,837 per airplane. Based on these figures, the cost impact of the modification proposed by this AD is estimated to be between $1,402 and $2,487 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10573 (63 FR 31345, June 9, 1998), and by adding a new airworthiness directive (AD), to read as follows:

Airbus: Docket 2002-NM-118-AD. Supersedes AD 98-12-18, Amendment 39-10573.

Applicability: Model A320-111, -211, and -231 series airplanes; certificated in any category; as listed in Airbus Service Bulletin A320-53-1027, Revision 03, dated February 12, 2002; or Airbus Service Bulletin A320-53-1028, Revision 01, dated February 12, 2002.

Compliance: Required as indicated, unless accomplished previously.

To detect and correct fatigue cracking in the transition and pick-up angles of the lower part of the center fuselage, which could result in reduced structural integrity of the wing-fuselage support and fuselage pressure vessel, accomplish the following:

Restatement of Requirements of AD 98-12-18

Repetitive Inspections/Corrective Actions/Modification

(a) Prior to the accumulation of 16,000 total landings, or within 6 months after July 14, 1998 (the effective date of AD 98-12-18, amendment 39-10573), whichever occurs later, accomplish paragraphs (a)(1) and (a)(2) of this AD, in accordance with Airbus Service Bulletin A320-53-1028, dated March 1, 1994.

(1) Perform a detailed inspection to detect cracks of the transition angle, in accordance with the service bulletin.

(i) If no crack is detected during the detailed inspection required by paragraph (a)(1) of this AD, accomplish either paragraph (a)(1)(i)(A) or paragraph (a)(1)(i)(B) of this AD.

(A) Repeat the detailed inspection thereafter at intervals not to exceed 12,000 landings. Or

(B) Prior to further flight, modify the center fuselage in accordance with Airbus Service Bulletin A320-53-1027, Revision 2, dated June 8, 1995. Accomplishment of the modification constitutes terminating action for the repetitive inspection requirements of paragraph (a)(1)(i)(A) of this AD.

(ii) If any crack is detected during the detailed inspection required by paragraph (a)(1) of this AD, prior to further flight, replace the transition angle with a new transition angle, in accordance with Airbus Service Bulletin A320-53-1027, Revision 2, dated June 8, 1995.

(2) Perform a rotating probe inspection to detect cracks of the pick-up angle, in accordance with the service bulletin.

(i) If no crack is detected during the rotating probe inspection required by paragraph (a)(2) of this AD, accomplish either paragraph (a)(2)(i)(A) or (a)(2)(i)(B) of this AD.

(A) Repeat the rotating probe inspection thereafter at intervals not to exceed 12,000 landings. Or

(B) Prior to further flight, modify the center fuselage in accordance with Airbus Service Bulletin A320-53-1027, Revision 2, dated June 8, 1995. Accomplishment of the modification constitutes terminating action for the repetitive inspection requirements of paragraph (a)(2)(i)(A) of this AD.

(ii) If any crack is detected and it is less than 1.9 mm in length, prior to further flight, accomplish the applicable corrective actions specified in the service bulletin. For holes that have not been modified in accordance with the service bulletin, repeat the rotating probe inspection thereafter at intervals not to exceed 12,000 landings.

(iii) If any crack is detected and it is 1.9 mm or greater in length, prior to further flight, repair it in accordance with the method approved by the Manager, International Branch, ANM-116, FAA, Transport Airplane Directorate.

Note 1: Accomplishment of the replacement/modification in accordance with Airbus Service Bulletin A320-53-1027, dated March 1, 1994, or Revision 01, dated September 5, 1994, prior to the effective date of this AD, is considered acceptable for compliance with the applicable action specified in this AD.

New Requirements of This AD

Detailed and Rotating Probe Inspections

(b) For airplanes on which the modification specified in AD 98-12-18 has not been done: Do the applicable inspections specified in paragraphs (b)(1) and (b)(2) of this AD, in accordance with the Accomplishment Instructions of Airbus Service Bulletin A320-53-1028, Revision 01, dated February 12, 2002.

(1) For airplanes on which the inspections required by AD 98-12-18 have been done: Within 12,000 flight cycles after accomplishment of the last inspection required by paragraphs (a)(1)(i)(A) and (a)(2)(i)(A) of this AD, as applicable; do a detailed inspection of the transition angle and a rotating probe inspection of the pick-up angle in the lower part of the center fuselage area for cracking.

(2) For airplanes on which the inspections required by AD 98-12-18 have not been done: At the later of the times specified in paragraph (b)(2)(i) or (b)(2)(ii) of this AD; do a detailed inspection of the transition angle and a rotating probe inspection of the pick-up angle in the lower part of the center fuselage area for cracking.

(i) Before the accumulation of 10,400 total flight cycles, or 24,600 total flight hours, whichever is first.

(ii) Before the accumulation of 16,000 total flight cycles, or within 3,500 flight cycles after the effective date of this AD, whichever is first.

Repetitive Inspections

(c) Repeat the detailed and rotating probe inspections specified in paragraphs (b)(1) and (b)(2) of this AD at intervals not to exceed 10,400 flight cycles or 24,600 flight hours, whichever is first, until the modification specified in paragraph (e) of this AD has been done.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(d) If any cracking is found during any inspection required by paragraph (b) or (c) of this AD: Prior to further flight, either repair the cracking per the Accomplishment Instructions of Airbus Service Bulletin A320-53-1028, Revision 01, dated February 12, 2002; or do the modification specified in paragraph (e) of this AD. Where the service bulletin specifies to contact the manufacturer for repair instructions, prior to further flight, repair the cracking in accordance with the method approved by the Manager, International Branch, ANM-116; or the Direction Générale de l'Aviation Civile (or its delegated agent). If the cracking is repaired, repeat the inspections as required by paragraph (c) of this AD.

Modification

(e) Modification of the transition and pick-up angles in the lower part of the center fuselage in accordance with paragraphs 3.A. through 3.D. of the Accomplishment Instructions of Airbus Service Bulletin A320-53-1027, Revision 03, dated February 12, 2002, ends the repetitive inspections required by this AD.

Alternative Methods of Compliance

(f) In accordance with 14 CFR 39.19, the Manager, International Branch, ANM-116, is authorized to approve alternative methods of compliance for this AD.

Note 3: The subject of this AD is addressed in French airworthiness directive 2002-183(B), dated April 3, 2002.

Issued in Renton, Washington, on November 12, 2003.
Kalene C. Yanamura,
Acting Manager, Transport Airplane Directorate, Aircraft Certification Service.

[FR Doc. 03-28735 Filed 11-17-03; 8:45 am]

BILLING CODE 4910-13-P